DEPARTMENT OF COMMERCE

International Trade Administration

[A-549-822 ]

Certain Frozen Warmwater Shrimp From Thailand: Final Results of Antidumping Duty Administrative Review, Partial Rescission of Review, and Revocation of Order (in Part); 2011-2012

AGENCY: Import Administration, International Trade Administration, Department of Commerce.

SUMMARY: On March 12, 2013, the Department of Commerce (the Department) published the preliminary results of the administrative review of the antidumping duty order on certain frozen warmwater shrimp (shrimp) from Thailand. The period of review (POR) is February 1, 2011, through January 31, 2012. Based on our analysis of the comments received, we have made certain changes in the margin calculations. Therefore, the final results differ from the preliminary results. The final weighted-average dumping margins for the reviewed firms are listed below in the section entitled “Final Results of the Review.” We have also determined to revoke the antidumping duty order with respect to shrimp from Thailand produced and exported by Marine Gold Products Limited (MRG) and to rescind the review with respect to two firms. Finally, we find that 11 companies had no shipments of subject merchandise during the POR.

DATES: Effective Date: July 16, 2013.

FOR FURTHER INFORMATION CONTACT: Blaine Wiltse or Dennis McClure, AD/CVD Operations, Office 2, Import Administration, International Trade Administration, U.S. Department of Commerce, 14th Street and Constitution Avenue NW., Washington, DC 20230; telephone (202) 482-6345 or (202) 482-5973, respectively.

Background

This review covers 149 ¹ producers/exporters. The respondents which the Department selected for individual examination are MRG and Thai Union Frozen Products Public Co., Ltd./Thai Union Seafood Co., Ltd. (collectively, Thai Union). The respondents which were not selected for individual examination are listed in the “Final Results of the Review” section of this notice.

¹ This figure does not include those companies for which the Department is rescinding the administrative review.

On March 12, 2013, the Department published the Preliminary Results.²

² See Certain Frozen Warmwater Shrimp From Thailand: Preliminary Results of Antidumping Duty Administrative Review and Intent To Revoke the Order (in Part); 2011-2012, 78 FR 15686 (Mar. 12, 2013) (Preliminary Results), and accompanying Preliminary Decision Memorandum.

On April 2, 2013, we notified parties of our intent to rescind the review for a company not selected for individual examination, Kosamut Frozen Foods Co., Ltd. (Kosamut) because it is neither a producer nor an exporter of subject merchandise.³ We provided parties an opportunity to comment on this preliminary decision. No party commented on the intent to rescind the review for Kosamut. Also in April 2013, we received case and rebuttal briefs from the Ad Hoc Shrimp Trade Action Committee (the petitioner), the American Shrimp Processors Association, as well as from MRG and Thai Union (collectively, “the respondents”) regarding the Preliminary Results.

³ See the Memorandum from Dennis McClure, Senior Analyst, Office 2, to James Maeder, Director, Office 2, entitled “Frozen Warmwater Shrimp From Thailand: Intent to Rescind Review for Kosamut Frozen Foods Co., Ltd.,” dated April 2, 2013 (Kosamut Rescission Memo).

The Department has conducted this administrative review in accordance with section 751 of the Tariff Act of 1930, as amended (the Act).

Scope of the Order

The merchandise subject to the order is certain frozen warmwater shrimp.⁴ The product is currently classified under the Harmonized Tariff Schedule of the United States (HTSUS) subheadings: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. Although the HTSUS numbers are provided for convenience and customs purposes, the written product description remains dispositive.

⁴ For a complete description of the Scope of the Order, see the “Issues and Decision Memorandum for the Antidumping Duty Administrative Review on Certain Frozen Warmwater Shrimp from Thailand,” from Christian Marsh, Deputy Assistant Secretary for Antidumping and Countervailing Duty Operations, to Paul Piquado, Assistant Secretary for Import Administration, dated concurrently with, and adopted by, this notice (Issues and Decision Memo).

Determination of No Shipments

As noted in the Preliminary Results, we received no-shipment claims from 13 companies named in the Initiation Notice.⁵ We confirmed the claims of 11 of these companies with U.S. Customs and Border Protection (CBP). Therefore, because we find that the record indicates that the 11 companies listed below did not export subject merchandise to the United States during the POR, we determine that they had no reviewable transactions during the POR. These companies are:

⁵ See Certain Frozen Warmwater Shrimp from Brazil, India, and Thailand: Notice of Initiation of Antidumping Duty Administrative Reviews and Request for Revocation of Order in Part, 77 FR 19612 (Apr. 2, 2012) (Initiation Notice).

(1) Anglo-Siam Seafoods Ltd.

(2) Daedong (Thailand) Co. Ltd.

(3) Leo Transport Corporation Ltd.

(4) Grobest Frozen Foods Co.

(5) Lucky Union Foods Co., Ltd.

(6) Namprick Maesri Ltd. Part.

(7) S&P Syndicate Public Company Ltd.

(8) S.K. Foods (Thailand) Public Co. Limited

(9) Siamchai International Food Co., Ltd.

(10) Thai Union Manufacturing Company Limited

(11) V. Thai Food Product Co., Ltd.

See Preliminary Results, 78 FR at 15687.

As we stated in the Preliminary Results,⁶ our former practice concerning respondents submitting timely no-shipment certifications was to rescind the administrative review with respect to those companies if we were able to confirm the no-shipment certifications through a no-shipment inquiry with CBP.⁷ As a result, in such circumstances, we normally instructed CBP to liquidate any entries from the no-shipment company at the deposit rate in effect on the date of entry.

⁶ See Preliminary Results, 78 FR at 15687.

⁷ See Antidumping Duties; Countervailing Duties; Final rule, 62 FR 27296, 27393 (May 19, 1997); see also Stainless Steel Sheet and Strip in Coils from Taiwan: Final Results of Antidumping Duty Administrative Review, 75 FR 76700, 76701 (Dec. 9, 2010).

In our May 6, 2003, clarification of the “automatic assessment” regulation, we explained that, where respondents in an administrative review demonstrate that they had no knowledge of sales through resellers to the United States, we would instruct CBP to liquidate such entries at the all-others rate applicable to the proceeding.⁸ As noted in the Preliminary Results, because “as entered” liquidation instructions do not alleviate the concerns which the May 2003 clarification was intended to address, we find it appropriate in this case to instruct CBP to liquidate any existing entries of merchandise produced by the above listed companies and exported by other parties at the all-others rate.⁹ In addition, we continue to find that it is more consistent with the May 2003 clarification not to rescind the review in part in these circumstances but, rather, to complete the review with respect to the 11 companies listed above and issue appropriate instructions to CBP based on the final results of this administrative review. See the “Assessment Rates” section of this notice below.

⁸ See Antidumping and Countervailing Duty Proceedings: Assessment of Antidumping Duties, 68 FR 23954 (May 6, 2003) (Assessment Policy Notice).

⁹ See Preliminary Results, 78 FR at 15690.

With respect to the two remaining companies (i.e., C Y Frozen Food Co., Ltd. (C Y Frozen Food) and Kosamut), the no-shipment claims received from these companies contained procedural deficiencies.¹⁰ One of these companies, C Y Frozen Food did not remedy the deficiencies prior to these final results. Specifically, we find that there is insufficient evidence on the record of this review to conclude C Y Frozen Food made no shipments of subject merchandise to the United States during the POR because it failed to certify its statement of no shipments in accordance with 19 CFR 351.303(g)(1), despite the Department's request that it do so. Therefore, we have continued to assign it a final dumping margin based on the average of the rates calculated for the mandatory respondents.

¹⁰ See id., 78 FR at 15687.

Regarding Kosamut, the no-shipment statement received from this company related only to its own exports and not also to those of another affiliated exporter which has, to date, been treated as the same entity as Kosamut for cash deposit purposes. After receiving additional data from Kosamut regarding its relationship with this affiliate, as well as its production facilities and product line, we find that it is appropriate to rescind the review for this company. For further discussion, see the “Rescission, in Part” section of this notice, below.

Rescission, in Part

In the Preliminary Results, the Department found that Tanaya International Co., Ltd. and Tanaya Intl. (collectively, Tanaya) is neither an exporter nor a manufacturer of the subject merchandise, and it made no entries, exports, or sales of the subject merchandise during the POR. Because no party has commented on this preliminary finding, we continue to find that Tanaya is not an exporter or producer, as defined in 19 CFR 351.213(b), and, accordingly, the Department is rescinding the review with respect to Tanaya, pursuant to 19 CFR 351.213(d)(3).

Similarly, in March 2013, at our request, we received information from Kosamut indicating that: (1) This company is not a producer or exporter of subject merchandise; and (2) it shares no sales information, production facilities, or employees with The Siam Union Frozen Foods Co., Ltd (Siam Union), an affiliated shrimp producer also involved in this administrative review. After analyzing this information, in April 2013, we preliminarily found that Kosamut and Siam Union are separate entities for purposes of this proceeding. Therefore, we announced our intention to rescind the review for Kosamut because it is not an exporter or producer of subject merchandise.¹¹ Because no party has commented on this preliminary finding, we continue to find that Kosamut and Siam Union are separate entities, and we are rescinding the review for Kosamut, pursuant to 19 CFR 351.213(d)(3).

¹¹ See the Kosamut Rescission Memo.

Determination To Revoke Order, In Part

The Department may revoke, in whole or in part, an antidumping duty order upon completion of a review under section 751 of the Act.¹² While Congress has not specified the procedures that the Department must follow in revoking an order, the Department has developed a procedure for revocation that is described in 19 CFR 351.222. This regulation requires, inter alia, that a company requesting revocation must submit the following: 1) a certification that the company has sold the subject merchandise at not less than normal value (NV) in the current review period and that the company will not sell subject merchandise at less than NV in the future; 2) a certification that the company sold commercial quantities of the subject merchandise to the United States in each of the three years forming the basis of the request; and 3) an agreement to immediate reinstatement of the order if the Department concludes that the company, subsequent to the revocation, sold subject merchandise at less than NV.¹³ Upon receipt of such a request to revoke an order in part, the Department will consider: (1) Whether the company in question has sold subject merchandise at not less than NV for a period of at least three consecutive years; (2) whether the company has agreed in writing to its immediate reinstatement in the order, as long as any exporter or producer is subject to the order, if the Department concludes that the company, subsequent to the revocation, sold the subject merchandise at less than NV; and (3) whether the continued application of the antidumping duty order is otherwise necessary to offset dumping.¹⁴

¹² In May 2012, the Department amended its regulations to eliminate the provision for revocation of an antidumping or countervailing duty order with respect to individual exporters or producers based on those individual exporters or producers having received antidumping rates of zero for three consecutive years. See Modification to Regulation Concerning the Revocation of Antidumping and Countervailing Duty Orders, 77 FR 29875 (May 21, 2012). The Department's amendment applies to all reviews initiated on or after June 20, 2012. The instant review was initiated in April 2012.

¹³ See 19 CFR 351.222(e)(1).

¹⁴ See 19 CFR 351.222(b)(2)(i). See also Sebacic Acid From the People's Republic of China: Final Results of Antidumping Duty Administrative Review and Determination To Revoke Order in Part, 67 FR 69719, 69720 (Nov. 19, 2002).

As noted in the Preliminary Results, MRG submitted the proper certifications pursuant to 19 CFR 351.222(e), and requested revocation of the antidumping duty order, in part, based on an absence of dumping for at least three consecutive years. With regard to the criteria of 19 CFR 351.222(b)(2), based on our examination of the data submitted by MRG, we determine that it sold the subject merchandise in the United States in commercial quantities in each of the consecutive years cited by MRG to support its request for revocation.¹⁵ Moreover, we find that MRG did not engage in dumping during the same three years under consideration. Specifically, our final margin calculations show that MRG sold shrimp at not less than NV during the current review period. In addition, MRG sold shrimp at not less than NV in the previous administrative review in which it was individually examined.¹⁶ Moreover, in the course of the current review, we examined MRG's sales and cost data from the 2010-2011 administrative review period for the purpose of determining MRG's eligibility for revocation and determined that MRG did not engage in dumping during the 2010-2011 review period.¹⁷ Therefore, we determine that MRG's exports of subject merchandise qualify for revocation from the order pursuant to 19 CFR 351.222(b)(2).

¹⁵ See the Memorandum to the File, from Blaine Wiltse, Senior Analyst, Office 2, AD/CVD Operations, entitled, “Analysis of Commercial Quantities for Marine Gold Products Limited's Request for Revocation,” dated March 4, 2013.

¹⁶ See Certain Frozen Warmwater Shrimp From Thailand: Final Results of Antidumping Duty Administrative Review and Final No Shipment Determination, 76 FR 40881, 40883 (July 12, 2011).

¹⁷ See Preliminary Decision Memorandum at 5-7.

Also, we find that application of the antidumping duty order to MRG is no longer warranted because: (1) MRG has agreed to immediate reinstatement of the order if the Department finds that it has resumed making sales at less than NV; and (2) the continued application of the order is not otherwise necessary to offset dumping based on our review of the record. Therefore, we find that MRG qualifies for revocation of the antidumping duty order on shrimp from Thailand under 19 CFR 351.222(b)(2). Accordingly, we are revoking the order with respect to subject merchandise produced and exported by MRG. For further discussion, see the Issues and Decision Memo at Comment 4.

Effective Date of Revocation

Pursuant to 19 CFR 351.222(f)(3), this revocation applies to all entries of subject merchandise that are produced and exported by MRG, and are entered, or withdrawn from warehouse, for consumption on or after February 1, 2012 (i.e., the first day after the period under review). The Department will order the suspension of liquidation lifted for all such entries and will instruct CBP to release any cash deposits or bonds. The Department will further instruct CBP to refund with interest any cash deposits on entries made on or after February 1, 2012.

Analysis of Comments Received

All issues raised in the case briefs by parties to this administrative review are addressed in the Issues and Decision Memo, which is hereby adopted by this notice. A list of the issues which parties raised and to which we respond in the Issues and Decision Memo is attached to this notice as Appendix I. The Issues and Decision Memo is a public document and is on file electronically via Import Administration's Antidumping and Countervailing Duty Centralized Electronic Service System (IA ACCESS). IA ACCESS is available to registered users at http://iaaccess.trade.gov and in the Central Records Unit (CRU), Room 7046 of the main Department of Commerce building. In addition, a complete version of the Issues and Decision Memo can be accessed directly on the Internet at http://www.trade.gov/ia/. The signed Issues and Decision Memo and the electronic versions of the Issues and Decision Memo are identical in content.

Changes Since the Preliminary Results

Based on our analysis of the comments received, we made changes in the margin calculations for MRG and Thai Union in these final results. Specifically, we altered the targeted dumping analysis for MRG and Thai Union, as well as corrected certain calculation errors and granted a CEP offset for Thai Union. These changes are further discussed in the relevant sections of the Issues and Decision Memo.

Period of Review

The POR is February 1, 2011, through January 31, 2012.

Final Results of the Review

We are assigning the following dumping margins to the firms listed below for the period February 1, 2011, through January 31, 2012, as follows:

Manufacturer/Exporter | Percent Margin
Marine Gold Products Limited | 0.00
Thai Union Frozen Products Public Co., Ltd./Thai Union Seafood Co., Ltd | 0.00

Review-Specific Average Rate Applicable to the Following Companies:

Manufacturer/Exporter | Percent Margin
A Foods 1991 Co., Ltd | 0.00
A. Wattanachai Frozen Products Co., Ltd | 0.00
A.S. Intermarine Foods Co., Ltd | 0.00
ACU Transport Co., Ltd | 0.00
Anglo-Siam Seafoods Co., Ltd | *
Apex Maritime (Thailand) Co., Ltd | 0.00
Apitoon Enterprise Industry Co., Ltd | 0.00
Applied DB | 0.00
Asian Seafood Coldstorage (Sriracha) | 0.00
Asian Seafoods Coldstorage Public Co., Ltd./Asian Seafoods Coldstorage (Suratthani) Co./STC Foodpak Ltd | 0.00
Assoc. Commercial Systems | 0.00
B.S.A. Food Products Co., Ltd | 0.00
Bangkok Dehydrated Marine Product Co., Ltd | 0.00
C Y Frozen Food Co., Ltd | 0.00
C.P. Retailing and Marketing Co., Ltd | 0.00
Calsonic Kansei (Thailand) Co., Ltd | 0.00
Century Industries Co., Ltd | 0.00
Chaivaree Marine Products Co., Ltd | 0.00
Chaiwarut Company Limited | 0.00
Charoen Pokphand Foods Public Company Limited | 0.00
Chonburi LC | 0.00
Chue Eie Mong Eak Ltd. Part. | 0.00
Commonwealth Trading Co., Ltd | 0.00
Core Seafood Processing Co., Ltd | 0.00
CP Merchandising Co., Ltd ³ | 0.00
Crystal Frozen Foods Co., Ltd. and/or Crystal Seafood | 0.00
Daedong (Thailand) Co. Ltd | *
Daiei Taigen (Thailand) Co., Ltd | 0.00
Daiho (Thailand) Co., Ltd | 0.00
Dynamic Intertransport Co., Ltd | 0.00
Earth Food Manufacturing Co., Ltd | 0.00
F.A.I.T. Corporation Limited | 0.00
Far East Cold Storage Co., Ltd | 0.00
Findus (Thailand) Ltd | 0.00
Fortune Frozen Foods (Thailand) Co., Ltd | 0.00
Frozen Marine Products Co., Ltd | 0.00
Gallant Ocean (Thailand) Co., Ltd | 0.00
Gallant Seafoods Corporation | 0.00
Global Maharaja Co., Ltd | 0.00
Golden Sea Frozen Foods Co., Ltd | 0.00
Golden Thai Imp. & Exp. Co., Ltd | 0.00
Good Fortune Cold Storage Co. Ltd | 0.00
Good Luck Product Co., Ltd | 0.00
Grobest Frozen Foods Co., Ltd | *
GSE Lining Technology Co., Ltd | 0.00
Gulf Coast Crab Intl. | 0.00
H.A.M. International Co., Ltd | 0.00
Haitai Seafood Co., Ltd | 0.00
Handy International (Thailand) Co., Ltd | 0.00
Heng Seafood Limited Partnership | 0.00
Heritrade Co., Ltd | 0.00
HIC (Thailand) Co., Ltd | 0.00
High Way International Co., Ltd | 0.00
I.T. Foods Industries Co., Ltd | 0.00
Inter-Oceanic Resources Co., Ltd | 0.00
Inter-Pacific Marine Products Co., Ltd | 0.00
K & U Enterprise Co., Ltd | 0.00
K Fresh | 0.00
K.D. Trading Co., Ltd | 0.00
K.L. Cold Storage Co., Ltd | 0.00
KF Foods Limited | 0.00
Kiang Huat Sea Gull Trading Frozen Food Public Co., Ltd | 0.00
Kibun Trdg | 0.00
Kingfisher Holdings Ltd | 0.00
Kitchens of the Oceans (Thailand) Company, Limited | 0.00
Klang Co., Ltd | 0.00
Kongphop Frozen Foods Co., Ltd | 0.00
Lee Heng Seafood Co., Ltd | 0.00
Leo Transports | *
Li-Thai Frozen Foods Co., Ltd | 0.00
Lucky Union Foods Co., Ltd | *
Maersk Line | 0.00
Magnate & Syndicate Co., Ltd | 0.00
Mahachai Food Processing Co., Ltd | 0.00
Merit Asia Foodstuff Co., Ltd | 0.00
Merkur Co., Ltd | 0.00
Ming Chao Ind Thailand | 0.00
N&N Foods Co., Ltd | 0.00
NR Instant Produce Co., Ltd | 0.00
Namprik Maesri Ltd. Part. | *
Narong Seafood Co., Ltd | 0.00
Nongmon SMJ Products | 0.00
Ongkorn Cold Storage Co., Ltd./Thai-Ger Marine Co., Ltd | 0.00
Pacific Queen Co., Ltd | 0.00
Pakfood Public Company Limited/Asia Pacific (Thailand) Co., Ltd./Chaophraya Cold Storage Co., Ltd./Okeanos Co.,Ltd./Okeanos Food Co., Ltd./Takzin Samut Co., Ltd.¹⁸ | 0.00
Penta Impex Co., Ltd | 0.00
Pinwood Nineteen Ninety Nine | 0.00
Piti Seafood Co., Ltd | 0.00
Premier Frozen Products Co., Ltd | 0.00
Preserved Food Specialty Co., Ltd | 0.00
Queen Marine Food Co., Ltd | 0.00
Rayong Coldstorage (1987) Co., Ltd | 0.00
S&D Marine Products Co., Ltd | 0.00
S&P Aquarium | 0.00
S&P Syndicate Public Company Ltd | *
S. Chaivaree Cold Storage Co., Ltd | 0.00
S. Khonkaen Food Industry Public Co., Ltd. and/or S. Khonkaen Food Ind. Public | 0.00
S.K. Foods (Thailand) Public Co. Limited | *
Samui Foods Company Limited | 0.00
SB Inter Food Co., Ltd | 0.00
SCT Co., Ltd | 0.00
Sea Bonanza Food Co., Ltd | 0.00
SEA NT'L CO., LTD. | 0.00
Seafoods Enterprise Co., Ltd | 0.00
Seafresh Fisheries/Seafresh Industry Public Co., Ltd | 0.00
Search & Serve | 0.00
Shianlin Bangkok Co., Ltd | 0.00
Shing Fu Seaproducts Development Co. | 0.00
Siam Food Supply Co., Ltd | 0.00
Siam Intersea Co., Ltd | 0.00
Siam Marine Products Co. Ltd | 0.00
Siam Ocean Frozen Foods Co. Ltd | 0.00
Siamchai International Food Co., Ltd | *
Smile Heart Foods | 0.00
SMP Products, Co., Ltd | 0.00
Southport Seafood Co., Ltd | 0.00
Star Frozen Foods Co., Ltd | 0.00
Starfoods Industries Co., Ltd | 0.00
Suntechthai Intertrading Co., Ltd | 0.00
Surapon Foods Public Co., Ltd./Surat Seafoods Co., Ltd. | 0.00
Surapon Nichirei Foods Co., Ltd | 0.00
Suratthani Marine Products Co., Ltd | 0.00
Suree Interfoods Co., Ltd | 0.00
T.S.F. Seafood Co., Ltd | 0.00
Tep Kinsho Foods Co., Ltd | 0.00
Teppitak Seafood Co., Ltd | 0.00
Tey Seng Cold Storage Co., Ltd | 0.00
Thai Agri Foods Public Co., Ltd | 0.00
Thai Mahachai Seafood Products Co., Ltd | 0.00
Thai Ocean Venture Co., Ltd | 0.00
Thai Patana Frozen | 0.00
Thai Prawn Culture Center Co., Ltd | 0.00
Thai Royal Frozen Food Co., Ltd | 0.00
Thai Spring Fish Co., Ltd | 0.00
Thai Union Manufacturing Company Limited | *
Thai World Imports and Exports Co., Ltd | 0.00
Thai Yoo Ltd., Part. | 0.00
The Siam Union Frozen Foods Co., Ltd | 0.00
The Union Frozen Products Co., Ltd./Bright Sea Co., Ltd. | 0.00
Trang Seafood Products Public Co., Ltd | 0.00
Transamut Food Co., Ltd | 0.00
Tung Lieng Tradg | 0.00
United Cold Storage Co., Ltd | 0.00
V. Thai Food Product Co., Ltd | *
Xian-Ning Seafood Co., Ltd | 0.00
Yeenin Frozen Foods Co., Ltd | 0.00
YHS Singapore Pte | 0.00
ZAFCO TRDG | 0.00
* No shipments or sales subject to this review.

Disclosure

We intend to disclose the calculations performed within five days of the date of publication of this notice to parties in this proceeding in accordance with 19 CFR 351.224(b).

¹⁸ In the 2007-2008 administrative review, the Department found that the following companies comprised a single entity: Pakfood Public Company Limited, Asia Pacific (Thailand) Co., Ltd., Chaophraya Cold Storage Co. Ltd., Okeanos Co. Ltd., Okeanos Food Co. Ltd., and Takzin Samut Co. Ltd. See Certain Frozen Warmwater Shrimp from Thailand: Final Results and Partial Rescission of Antidumping Duty Administrative Review, 74 FR 47551 (Sept. 16, 2009), and accompanying Issues and Decision Memorandum at Comment 6. No party has submitted arguments or evidence that the Department should reconsider this single entity treatment. Accordingly, we have continued to treat these companies as a single entity for purposes of this administrative review.

Assessment Rates

Pursuant to section 751(a)(2)(C) of the Act, and 19 CFR 351.212(b)(1), the Department has determined, and CBP shall assess, antidumping duties on all appropriate entries of subject merchandise and deposits of estimated duties, where applicable, in accordance with the final results of this review. The Department intends to issue assessment instructions to CBP 15 days after the date of publication of these final results of review.

Pursuant to the Final Modification for Reviews,¹⁹ because the respondents' weighted-average dumping margins are zero, we will instruct CBP to liquidate the appropriate entries without regard to antidumping duties.²⁰

¹⁹ See Antidumping Proceedings: Calculation of the Weighted-Average Dumping Margin and Assessment Rate in Certain Antidumping Duty Proceedings; Final Modification, 77 FR 8101 (Feb. 14, 2012) (Final Modification for Reviews).

²⁰ See id., 77 FR at 8102.

The Department clarified its “automatic assessment” regulation on May 6, 2003. See Assessment Policy Notice. This clarification applies to entries of subject merchandise during the POR produced by companies included in these final results of review for which the reviewed companies did not know that the merchandise they sold to an intermediary (e.g., a reseller, trading company, or exporter) was destined for the United States. In such instances, we will instruct CBP to liquidate unreviewed entries at the all-others rate established in the less-than-fair-value (LTFV) investigation if there is no rate for the intermediate company(ies) involved in the transaction. See Assessment Policy Notice for a full discussion of this clarification.

Cash Deposit Requirements

The following cash deposit requirements will be effective for all shipments of subject merchandise entered, or withdrawn from warehouse, for consumption on or after the publication date of the final results of this administrative review, as provided by section 751(a)(2)(C) of the Act: (1) the cash deposit rates for the reviewed firms will be equal to the weighted-average dumping margins established in the final results of this administrative review (i.e., zero percent); (2) for previously reviewed or investigated companies not listed above, as well as those companies listed in the “Determination of No Shipments” section, above, the cash deposit rate will continue to be the company-specific rate published for the most recently completed segment of this proceeding; (3) if the exporter is not a firm covered in this review, a previous review, or the original LTFV investigation, but the manufacturer is, the cash deposit rate will be the rate established for the most recent period for the manufacturer of the merchandise; and (4) the cash deposit rate for all other manufacturers or exporters will continue to be 5.34 percent, the all-others rate made effective by the Section 129 Determination.²¹ These deposit requirements, when imposed, shall remain in effect until further notice.

²¹ Effective January 16, 2009, there is no longer a cash deposit requirement for certain producers/exporters in accordance with the Implementation of the Findings of the WTO Panel in United States Antidumping Measure on Shrimp from Thailand: Notice of Determination under Section 129 of the Uruguay Round Agreements Act and Partial Revocation of the Antidumping Duty Order on Frozen Warmwater Shrimp from Thailand, 74 FR 5638 (Jan. 30, 2009) (Section 129 Determination).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification to Interested Parties

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

We are issuing and publishing these results of review in accordance with sections 751(a)(1) and 777(i)(1) of the Act and 19 CFR 351.222.

Dated: July 10, 2013.
Paul Piquado,
Assistant Secretary for Import Administration.

Appendix I

List of Topics Discussed in the Issues and Decision Memorandum

General Issues

1. Targeted Dumping Allegation

2. Applicability of Cohen's D Test

3. Assignment of a Final Dumping Margin to the Non-selected Respondents

MRG Issues

4. Time Period Covered in MRG's Targeted Dumping Analysis

5. MRG's Cost Reporting Methodology

Thai Union Issues

6. Thai Union's Constructed Export Price (CEP) Offset Claim

7. Treatment of Assessed Antidumping Duties Paid by Thai Union

8. Thai Union Calculation Issues

[FR Doc. 2013-17042 Filed 7-15-13; 8:45 am]

BILLING CODE 3510-DS-P